DEPARTMENT OF COMMERCE

International Trade Administration

A-580-839

A-583-833

Certain Polyester Staple Fiber From Taiwan and the Republic of Korea: Notice of Extension of Time Limit for 2004-2005 Administrative Reviews

AGENCY: Import Administration, International Trade Administration, Department of Commerce.

EFFECTIVE DATE: January 10, 2006.

FOR FURTHER INFORMATION CONTACT: Yasmin Bordas or Andrew McAllister, AD/CVD Operations, Office 1, Import Administration, International Trade Administration, U.S. Department of Commerce, 14th Street and Constitution Avenue, NW, Washington, DC 20230; telephone (202) 482-3813 or (202) 482-1174, respectively.

SUPPLEMENTARY INFORMATION:

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On June 30, 2005, the Department published a notice of initiation of administrative reviews of the antidumping duty orders on certain polyester staple fiber (“PSF”) from Taiwan and the Republic of Korea (“Korea”), covering the period May 1, 2004, through April 30, 2005. See Initiation of Antidumping and Countervailing Duty Administrative Reviews, 70 FR 37749 (June 30, 2005). The preliminary results for the antidumping duty administrative reviews of certain PSF from Taiwan and Korea are currently due no later than January 31, 2006.

Extension of Time Limits for Preliminary Results

The Department requires additional time to review, analyze, and verify the sales and cost information and to issue supplemental questionnaires. Moreover, the Department requires additional time to review and analyze the model match criteria, and it is thus not practicable to complete this review within the original time limit (i.e., January 31, 2006). Therefore, the Department is extending the time limit for completion of the preliminary results to not later than May 24, 2006, in accordance with section 751(a)(3)(A) of the Act.

We are issuing and publishing this notice in accordance with sections 751(a)(1) and 777(i)(1) of the Act.

Dated: January 4, 2006.
Stephen J. Claeys,
Deputy Assistant Secretary for Import Administration.

[FR Doc. E6-104 Filed 1-9-06; 8:45 am]

BILLING CODE 3510-DS-S